DEPARTMENT OF TRANSPORTATION

Federal Aviation Administration

Notice of Opportunity for Public Comment on a Surplus Property Release at the Valdosta Regional Airport, Valdosta, Georgia

AGENCY: Federal Aviation Administration (FAA), DOT.

ACTION: Notice.

SUMMARY: Notice is being given that the Federal Aviation Administration (FAA) is considering a request from the Valdosta-Lowndes County Airport Authority to waive the requirement that one (1) acre of surplus property, located at the Valdosta Regional Airport be used for aeronautical purposes. Currently, ownership of the property provides for protection of FAR Part 77 surfaces and compatible land use.

DATES: Comments must be received on or before April 13, 2017.

ADDRESSES: Documents are available for review by prior appointment at the following location: Atlanta Airports District Office, Attn: Rob Rau, Georgia Program Manager, 1701 Columbia Ave., Room 220, College Park, Georgia 30337-2747, Telephone: (404) 305-6748.

Comments on this notice may be mailed or delivered in triplicate to the FAA at the following address: Atlanta Airports District Office, Attn: Rob Rau, Georgia Program Manager, 1701 Columbia Ave., Room 220, College Park, Georgia 30337-2747.

In addition, one copy of any comments submitted to the FAA must be mailed or delivered to James P. Galloway, III, Executive Director, Valdosta-Lowndes County Airport Authority at the following address: Valdosta Regional Airport, 1750 Airport Road, Suite 1, Valdosta, Georgia 31601.

FOR FURTHER INFORMATION CONTACT: Rob Rau, Georgia Program Manager, Atlanta Airports District Office, 1701 Columbia Ave., Room 220, College Park, Georgia 30337-2747, (404)305-6748. The application may be reviewed in person at this same location.

SUPPLEMENTARY INFORMATION: Under the provisions of 49 U.S.C. 47151, the FAA is reviewing a request by the Valdosta-Lowndes County Airport Authority to release one (1) acre of surplus property at the Valdosta Regional Airport. This singular parcel was originally leased to the United States of America on December 15, 1941. Then on December 18, 1946, the lease with the United State of America was declared surplus and was transferred to the City of Valdosta. The Valdosta-Lowndes County Airport Authority will retain ownership of this parcel while establishing a land lease for a solar array.

Any person may inspect the request in person at the FAA office listed above under FOR FURTHER INFORMATION CONTACT. In addition, any person may, upon request, inspect the request, notice and other documents germane to the request in person at the Valdosta Regional Airport.

Issued in Atlanta, Georgia on February 6, 2017.

Larry F. Clark,
Manager, Atlanta Airports District Office, Southern Region.

[FR Doc. 2017-04998 Filed 3-13-17; 8:45 am]

BILLING CODE 4910-13-P